DEPARTMENT OF VETERANS AFFAIRS

38 CFR Part 20

RIN 2900-AL45

Board of Veterans' Appeals: Rules of Practice—Notice Procedures Relating to Withdrawal of Services by a Representative

AGENCY: Department of Veterans Affairs.

ACTION: Final rule.

SUMMARY: This document amends the Department of Veterans Affairs' (VA) Board of Veterans' Appeals Rules of Practice to simplify notice procedures relating to withdrawal of services by a representative after certification of an appeal. We believe that these simplified notice procedures are adequate for establishing proof of service.

DATES: Effective Date: May 20, 2004.

FOR FURTHER INFORMATION CONTACT: Steven L. Keller, Senior Deputy Vice Chairman, Board of Veterans' Appeals, Department of Veterans Affairs, 810 Vermont Avenue, NW., Washington, DC 20420 (202-565-5978). In a document published in the Federal Register on June 3, 2003 (68 FR 33040), we proposed amending Rule 608(b)(2) (38 CFR 20.608(b)(2)) to provide that, in cases involving a motion to withdraw services by a representative after certification of an appeal, proof of service will be accomplished by filing a statement with the Board of Veterans' Appeals (Board) certifying that the motion has been sent by first-class mail, postage prepaid, to the appellant or that the response has been sent by first-class mail, postage prepaid, to the representative, as applicable. The previous practice required mailing the motion, and any response to that motion, by certified mail. The purpose of this amendment is to shorten the time before the motion is ripe for determination by the Board, expediting the possibility of a transition, if appropriate, to a new representative.

We asked interested parties to submit comments on or before August 4, 2003. We received no comments. Based on the rationale noted above and as set forth in the proposed rule, we are adopting the proposed rule as a final rule without change.

Executive Order 12866

The Office of Management and Budget has reviewed this document under Executive Order 12866.

Unfunded Mandates

The Unfunded Mandates Reform Act of 1995 requires, at 2 U.S.C. 1532, that agencies prepare an assessment of anticipated costs and benefits before developing any rule that may result in an expenditure by State, local, or tribal governments, in the aggregate, or by the private sector, of $100 million or more in any given year. This final rule would have no such effect on State, local, or tribal governments, or the private sector.

Paperwork Reduction Act

The Secretary hereby certifies that this final rule contains no new collection of information under the Paperwork Reduction Act (44 U.S.C. 3501-3521).

Regulatory Flexibility Act

The Secretary hereby certifies that this regulatory amendment will not have a significant economic impact on a substantial number of small entities as they are defined in the Regulatory Flexibility Act (RFA), 5 U.S.C. 601-612. This rule merely concerns requirements for proof of service of motions for withdrawal of services by a representative after certification of an appeal before the Board, and for proof of service of responses to such motions. Moreover, such motions and responses are events that occur in only a minor proportion of the cases before the Board. Any economic impact on small entities would be minimal. Therefore, pursuant to 5 U.S.C. 605(b), this final rule is exempt from the initial and final regulatory flexibility analysis requirements of sections 603 and 604.

List of Subjects in 38 CFR Part 20

Administrative practice and procedure, Claims, Attorneys, Lawyers, Legal services, Procedural rules, Veterans.

Approved: March 18, 2004.
Anthony J. Principi,
Secretary of Veterans Affairs.

For the reasons set out in the preamble, 38 CFR part 20 is amended as set forth below:

PART 20—BOARD OF VETERANS' APPEALS: RULES OF PRACTICE

1. The authority citation for part 20 continues to read as follows:

Authority: 38 U.S.C. 501(a) and as noted in specific sections.

§ 20.608 [Amended]

2. Section 20.608, paragraph (b)(2) is amended by:

A. In the third sentence, removing “permitted.” and adding, in its place, “permitted, and a signed statement certifying that a copy of the motion was sent by first-class mail, postage prepaid, to the appellant, setting forth the address to which the copy was mailed.”

B. Removing the sixth and seventh sentences.

C. In the eighth sentence, removing “motion.” and adding, in its place, “motion and must include a signed statement certifying that a copy of the response was sent by first-class mail, postage prepaid, to the representative, setting forth the address to which the copy was mailed.”

D. Removing the ninth and tenth sentences.

[FR Doc. 04-8880 Filed 4-19-04; 8:45 am]

BILLING CODE 8320-01-P